DEPARTMENT OF ENERGY

Federal Energy Regulatory Commission

Combined Notice of Filings #1

Take notice that the Commission received the following electric corporate filings:

Docket Numbers: EC21-6-000.

Applicants: Wilmot Energy Center, LLC, NEP US SellCo, LLC, NextEra Energy Partners Acquisitions, LLC.

Description: Application for Authorization Under Section 203 of the Federal Power Act, et al. of Wilmot Energy Center, LLC, et al.

Filed Date: 10/7/20.

Accession Number: 20201007-5182.

Comments Due: 5 p.m. ET 10/28/20.

Take notice that the Commission received the following exempt wholesale generator filings:

Docket Numbers: EG21-3-000.

Applicants: Wapello Solar LLC.

Description: Self-Certification of Exempt Wholesale Generator of Wapello Solar LLC.

Filed Date: 10/7/20.

Accession Number: 20201007-5091.

Comments Due: 5 p.m. ET 10/28/20.

Docket Numbers: EG21-4-000.

Applicants: Dartmouth Power Associates Limited Partnership.

Description: Notice of Self-Recertification of Exempt Wholesale Generator Status of Dartmouth Power Associates Limited Partnership.

Filed Date: 10/8/20.

Accession Number: 20201008-5042.

Comments Due: 5 p.m. ET 10/29/20.

Docket Numbers: EG21-5-000.

Applicants: Vistra Corp., Upton County 2 Solar LLC.

Description: Upton County 2 Solar EWG Self-Certification.

Filed Date: 10/8/20.

Accession Number: 20201008-5048.

Comments Due: 5 p.m. ET 10/29/20.

Take notice that the Commission received the following electric rate filings:

Docket Numbers: ER10-2822-018; ER10-1776-002; ER10-2824-002; ER10-2825-003; ER10-2831-003; ER10-2957-003; ER10-2995-003; ER10-2996-002; ER10-2998-002; ER10-2999-002; ER10-3000-002; ER10-3009-004; ER10-3013-003; ER10-3014-002; ER10-3029-002; ER11-2196-010; ER16-1250-010; ER17-1243-002; ER17-1769-003; ER19-2360-001.

Applicants: Atlantic Renewables Projects II LLC, Avangrid Renewables, LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Montague Wind Power Facility, LLC, Pebble Springs Wind LLC, San Luis Solar LLC, Solar Star Oregon II, LLC, Star Point Wind Project LLC, Twin Buttes Wind LLC, Twin Buttes Wind II LLC.

Description: Supplement to December 31, 2019 Updated Market Power Analysis for the Northwest Region of Avangrid Northwest MBR Sellers.

Filed Date: 10/7/20.

Accession Number: 20201007-5179.

Comments Due: 5 p.m. ET 10/28/20.

Docket Numbers: ER20-2654-000.

Applicants: Clear Power LLC.

Description: Amendment to August 12, 2020 Clear Power LLC tariff filing.

Filed Date: 10/5/20.

Accession Number: 20201005-5168.

Comments Due: 5 p.m. ET 10/15/20.

Docket Numbers: ER21-47-000.

Applicants: Tucson Electric Power Company.

Description: Compliance filing: Report Regarding Wholesale Sales in WECC to be effective 2/25/2016.

Filed Date: 10/7/20.

Accession Number: 20201007-5131.

Comments Due: 5 p.m. ET 10/28/20.

Docket Numbers: ER21-48-000.

Applicants: UNS Electric, Inc.

Description: Compliance filing: Report Regarding Wholesale Sales in WECC to be effective 2/25/2016.

Filed Date: 10/7/20.

Accession Number: 20201007-5133.

Comments Due: 5 p.m. ET 10/28/20.

Docket Numbers: ER21-49-000.

Applicants: Public Service Company of New Mexico.

Description: § 205(d) Rate Filing: Limited Modifications to Formula Rate Template to be effective 6/1/2020.

Filed Date: 10/7/20.

Accession Number: 20201007-5137.

Comments Due: 5 p.m. ET 10/28/20.

Docket Numbers: ER21-50-000.

Applicants: PJM Interconnection, L.L.C.

Description: § 205(d) Rate Filing: Original WMPA SA No. 5816; Queue No. AF2-271 to be effective 9/8/2020.

Filed Date: 10/7/20.

Accession Number: 20201007-5139.

Comments Due: 5 p.m. ET 10/28/20.

Docket Numbers: ER21-51-000.

Applicants: BP Energy Company.

Description: Compliance filing: Report of bp Energy, LLC Regarding Certain WECC Spot Market Sales to be effective N/A.

Filed Date: 10/7/20.

Accession Number: 20201007-5141.

Comments Due: 5 p.m. ET 10/28/20.

Docket Numbers: ER21-51-001.

Applicants: BP Energy Company.

Description: Compliance filing: Corrected Report of bp Energy Company Regarding Certain WECC Spot Market Sales to be effective N/A.

Filed Date: 10/8/20.

Accession Number: 20201008-5037.

Comments Due: 5 p.m. ET 10/29/20.

Docket Numbers: ER21-52-000.

Applicants: Public Service Company of New Mexico.

Description: Compliance filing: WECC Price cap to be effective 6/7/2014.

Filed Date: 10/7/20.

Accession Number: 20201007-5142.

Comments Due: 5 p.m. ET 10/28/20.

Docket Numbers: ER21-53-000.

Applicants: Virginia Electric and Power Company, PJM Interconnection, L.L.C.

Description: § 205(d) Rate Filing: Dominion submits a WDSA, SA No. 5765 to be effective 9/19/2020.

Filed Date: 10/7/20.

Accession Number: 20201007-5144.

Comments Due: 5 p.m. ET 10/28/20.

Docket Numbers: ER21-54-000.

Applicants: Duke Energy Carolinas, LLC.

Description: § 205(d) Rate Filing: DEC-New River Power and Light Co. Reimbursement Agreement RS 543 to be effective 12/7/2020.

Filed Date: 10/7/20.

Accession Number: 20201007-5146.

Comments Due: 5 p.m. ET 10/28/20.

Docket Numbers: ER21-55-000.

Applicants: Mesquite Power, LLC.

Description: Compliance filing: Report of Mesquite Power, LLC Regarding Certain WECC Spot Market Sales to be effective N/A.

Filed Date: 10/7/20.

Accession Number: 20201007-5147.

Comments Due: 5 p.m. ET 10/28/20.

Docket Numbers: ER21-56-000.

Applicants: Guzman Energy, LLC.

Description: Compliance filing: Compliance filing to be effective N/A.

Filed Date: 10/7/20.

Accession Number: 20201007-5150.

Comments Due: 5 p.m. ET 10/28/20.

Docket Numbers: ER21-57-000.

Applicants: Shell Energy North America (US), L.P.

Description: Compliance filing: Spot Market Sales Above Soft Cap to be effective N/A.

Filed Date: 10/7/20.

Accession Number: 20201007-5155.

Comments Due: 5 p.m. ET 10/28/20.

Docket Numbers: ER21-58-000.

Applicants: TransAlta Energy Marketing (U.S.) Inc.

Description: Compliance filing: Notice and Justification for Spot Sales above WECC Soft Cap to be effective N/A.

Filed Date: 10/7/20.

Accession Number: 20201007-5157.

Comments Due: 5 p.m. ET 10/28/20.

Docket Numbers: ER21-59-000.

Applicants: Brookfield Renewable Trading and Marketing LP.

Description: Compliance filing: Justification of Spot Market Sales Above Soft Cap to be effective N/A.

Filed Date: 10/7/20.

Accession Number: 20201007-5159.

Comments Due: 5 p.m. ET 10/28/20.

Docket Numbers: ER21-60-000.

Applicants: PacifiCorp.

Description: Compliance filing: WECC Soft Cap Filing 2020-10 to be effective 9/30/2010.

Filed Date: 10/7/20.

Accession Number: 20201007-5162.

Comments Due: 5 p.m. ET 10/28/20.

Docket Numbers: ER21-61-000.

Applicants: El Paso Electric Company.

Description: Compliance filing: WECC Soft Cap Justification to be effective N/A.

Filed Date: 10/7/20.

Accession Number: 20201007-5165.

Comments Due: 5 p.m. ET 10/28/20.

Docket Numbers: ER21-62-000.

Applicants: Uniper Global Commodities North America.

Description: Compliance filing: UGCNA WECC Spot Sales Report 2020.10.07 to be effective 12/31/9998.

Filed Date: 10/8/20.

Accession Number: 20201008-5000.

Comments Due: 5 p.m. ET 10/29/20.

Docket Numbers: ER21-63-000.

Applicants: Midcontinent Independent System Operator, Inc.

Description: § 205(d) Rate Filing: 2020-10-08_SA 2929 Termination of Huron Wind-ITC Amended GIA (J308) to be effective 2/17/2020.

Filed Date: 10/8/20.

Accession Number: 20201008-5038.

Comments Due: 5 p.m. ET 10/29/20.

Docket Numbers: ER21-64-000.

Applicants: Macquarie Energy LLC.

Description: Macquarie Energy LLC submits Explanation for Bilateral Spot Sales In Western Electricity Coordinating Council to be effective N/A.

Filed Date: 10/7/20.

Accession Number: 20201007-5184.

Comments Due: 5 p.m. ET 10/28/20.

Docket Numbers: ER21-65-000.

Applicants: Tri-State Generation and Transmission Association, Inc.

Description: Tri-State Generation and Transmission Association, Inc. submits Report Justifying Costs of Short-Term Sales Above Soft Cap Price, et al. to be effective N/A.

Filed Date: 10/7/20.

Accession Number: 20201007-5186.

Comments Due: 5 p.m. ET 10/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2020.
Nathaniel J. Davis, Sr.,
Deputy Secretary.

[FR Doc. 2020-22775 Filed 10-14-20; 8:45 am]

BILLING CODE 6717-01-P